DEPARTMENT OF ENERGY

Federal Energy Regulatory Commission

Combined Notice of Filings #1

Take notice that the Commission received the following electric rate filings:

Docket Numbers: ER19-828-001; ER11-4535-001; ER16-2271-002; ER16-581-003; ER16-582-003; ER17-1370-002.

Applicants: Solomon Forks Wind Project, LLC, ENGIE Energy Marketing NA, Inc., ENGIE Portfolio Management, LLC, ENGIE Resources LLC, ENGIE Retail, LLC, Plymouth Rock Energy, LLC.

Description: Notice of Change in Status of the ENGIE MBR Sellers.

Filed Date: 2/21/20.

Accession Number: 20200221-5218.

Comments Due: 5 p.m. ET 3/13/20.

Docket Numbers: ER19-2276-003.

Applicants: New York Independent System Operator, Inc.

Description: Compliance filing: Compliance re: 1/23/20 Order Distributed Energy Resourcess to be effective 12/31/9998.

Filed Date: 2/24/20.

Accession Number: 20200224-5087.

Comments Due: 5 p.m. ET 3/16/20.

Docket Numbers: ER19-2747-002.

Applicants: Southwest Power Pool, Inc.

Description: Tariff Amendment: 3593 Frontier Windpower II GIA—Deficiency Response to be effective 8/23/2019.

Filed Date: 2/24/20.

Accession Number: 20200224-5010.

Comments Due: 5 p.m. ET 3/16/20.

Docket Numbers: ER19-2748-002.

Applicants: Southwest Power Pool, Inc.

Description: Tariff Amendment: 3595 Skeleton Creek Wind, LLC GIA—Deficiency Response to be effective 8/23/2019.

Filed Date: 2/24/20.

Accession Number: 20200224-5015.

Comments Due: 5 p.m. ET 3/16/20.

Docket Numbers: ER19-2773-002.

Applicants: Southwest Power Pool, Inc.

Description: Tariff Amendment: 3594 Wheatbelt Wind, LLC GIA—Deficiency Response to be effective 8/23/2019.

Filed Date: 2/24/20.

Accession Number: 20200224-5030.

Comments Due: 5 p.m. ET 3/16/20.

Docket Numbers: ER19-2813-002.

Applicants: Southwest Power Pool, Inc.

Description: Tariff Amendment: 3597SO Chilocco Wind Farm GIA—Deficiency Response to be effective 9/6/2019.

Filed Date: 2/24/20.

Accession Number: 20200224-5031.

Comments Due: 5 p.m. ET 3/16/20.

Docket Numbers: ER20-807-000.

Applicants: Ruff Solar LLC.

Description: Supplement to January 15, 2020 Ruff Solar LLC tariff filing.

Filed Date: 2/24/20.

Accession Number: 20200224-5033.

Comments Due: 5 p.m. ET 3/16/20.

Docket Numbers: ER20-1059-000.

Applicants: Southwest Power Pool, Inc.

Description: Baseline eTariff Filing: Western Energy Imbalance Service Tariff to be effective 2/1/2021.

Filed Date: 2/21/20.

Accession Number: 20200221-5114.

Comments Due: 5 p.m. ET 3/13/20.

Docket Numbers: ER20-1060-000.

Applicants: Southwest Power Pool, Inc.

Description: Baseline eTariff Filing: Western Energy Imbalance Service Rate Schedule Tariff to be effective 2/1/2021.

Filed Date: 2/21/20.

Accession Number: 20200221-5118.

Comments Due: 5 p.m. ET 3/13/20.

Docket Numbers: ER20-1061-000.

Applicants: Turquoise Nevada LLC.

Description: § 205(d) Rate Filing: Turquoise Nevada LLC First Amendment to Shared Facilities Agreement to be effective 2/22/2020.

Filed Date: 2/21/20.

Accession Number: 20200221-5135.

Comments Due: 5 p.m. ET 3/13/20.

Docket Numbers: ER20-1062-000.

Applicants: Garden Wind, LLC.

Description: Baseline eTariff Filing: Reactive Power Compensation Filing to be effective 4/24/2020.

Filed Date: 2/24/20.

Accession Number: 20200224-5009.

Comments Due: 5 p.m. ET 3/16/20.

Docket Numbers: ER20-1065-000.

Applicants: PJM Interconnection, L.L.C.

Description: § 205(d) Rate Filing: Amendment to WMPA, SA No. 3255; Queue No. W4-073 (consent and amend) to be effective 11/2/2016.

Filed Date: 2/24/20.

Accession Number: 20200224-5056.

Comments Due: 5 p.m. ET 3/16/20.

Docket Numbers: ER20-1066-000.

Applicants: AEP Texas Inc.

Description: § 205(d) Rate Filing: AEPTX—Monte Alto Windpower GIA to be effective 2/13/2020.

Filed Date: 2/24/20.

Accession Number: 20200224-5063.

Comments Due: 5 p.m. ET 3/16/20.

Docket Numbers: ER20-1067-000.

Applicants: Diamond State Generation Partners, LLC.

Description: § 205(d) Rate Filing: Amendment of Diamond State MBR Tariff to be effective 2/25/2020.

Filed Date: 2/24/20.

Accession Number: 20200224-5088.

Comments Due: 5 p.m. ET 3/16/20.

Take notice that the Commission received the following electric securities filings:

Docket Numbers: ES20-17-000.

Applicants: Trans Bay Cable LLC.

Description: Application Under Section 204 of the Federal Power Act for Authorization to Issue Securities of Trans Bay Cable LLC.

Filed Date: 2/21/20.

Accession Number: 20200221-5223.

Comments Due: 5 p.m. ET 3/13/20.

Take notice that the Commission received the following foreign utility company status filings:

Docket Numbers: FC20-4-000.

Applicants: Energy Center Caguas LLC.

Description: Notice of Self-Certification of Foreign Utility Company Status.

Filed Date: 2/21/20.

Accession Number: 20200221-5136.

Comments Due: 5 p.m. ET 3/13/20.

Take notice that the Commission received the following electric reliability filings:

Docket Numbers: RD20-4-000.

Applicants: North American Electric Reliability Corporation.

Description: Application of the North American Electric Reliability Corporation for approval of proposed Reliability Standards developed Standards Alignment with Registration.

Filed Date: 2/21/20.

Accession Number: 20200221-5221.

Comments Due: 5 p.m. ET 3/23/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2020.
Kimberly D. Bose,
Secretary.

[FR Doc. 2020-04127 Filed 2-27-20; 8:45 am]

BILLING CODE 6717-01-P